DEPARTMENT OF TRANSPORTATION

Federal Highway Administration

Rescinding the Notice of Intent for an Environmental Impact Statement (EIS): Blair Bypass, Washington County, Nebraska

AGENCY: Federal Highway Administration (FHWA), DOT.

ACTION: Rescind Notice of Intent to prepare an EIS.

SUMMARY: The FHWA is issuing this notice to advise the public that the Notice of Intent (NOI) for the preparation of an Environmental Impact Statement to study a bypass route around the City of Blair, in Washington County, Nebraska, is being rescinded [project number S-89(17)]. The NOI was published in the Federal Register on June 2, 2004. A Draft Environmental Impact Statement was not released. This rescission is based on a lack of available funding for the full corridor proposal, which has led to the reduction in the scope of the study and a refinement of the methods to identify and assess alternatives.

FOR FURTHER INFORMATION CONTACT: Melissa Maiefski, Program Delivery Team Lead, FHWA, Nebraska Division, 100 Centennial Mall North, Room 220, Lincoln, Nebraska 68508, Telephone: (402) 742-8473.

SUPPLEMENTARY INFORMATION: The Federal Highway Administration (FHWA) in cooperation with the City of Blair, Nebraska and the Nebraska Department of Roads (NDOR) initiated an Environmental Impact Statement (EIS) to study a bypass route around the City of Blair with a Notice of Intent on June 2, 2004. The project studied the causes of traffic congestion, delays, and accidents where State Highway 91 and U.S. Highways 30 and 75 share the same alignment within Blair on Washington Street from 19th Street to 13th Street. Traffic studies indicated that a bypass route around the south, east, and north parts of Blair could reduce truck traffic through downtown Blair.

The NOI for the previous study is being rescinded due to funding constraints that have led to a reduced scope of study. The decision to rescind the NOI and to reduce the scope of the study was a joint decision by FHWA, the City of Blair, and NDOR. The new study will focus on alleviating traffic congestion within downtown Blair, but will refine the needs to be addressed and the methods for assessing alternatives. Given the reduction in scope, FHWA intends to proceed with an Environmental Assessment for the new study. If potentially significant impacts are identified during the new study, a new NOI to prepare an EIS will be published.

Comments or questions concerning the rescission of this proposed action and the EIS should be directed to the FHWA at the address provided above.

Authority: 23 U.S.C. 315; 49 CFR 1.48

Dated: June 30, 2015.
Joseph A. Werning,
Division Administrator, Nebraska.

[FR Doc. 2015-18815 Filed 7-30-15; 8:45 am]

BILLING CODE 4910-22-P